DEPARTMENT OF COMMERCE

Foreign-Trade Zones Board

[B-14-2024]

Foreign-Trade Zone (FTZ) 297, Notification of Proposed Production Activity; Twin Disc, Inc.; (Power Transmission Products); Lufkin, Texas

Twin Disc, Inc. submitted a notification of proposed production activity to the FTZ Board (the Board) for its facility in Lufkin, Texas within Subzone 297A. The notification conforming to the requirements of the Board's regulations (15 CFR 400.22) was received on April 4, 2024.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed foreign-status material/component is cellulose fiber gaskets (duty rate is duty-free). The request indicates the material/component is subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is May 21, 2024.

A copy of the notification will be available for public inspection in the “Online FTZ Information System” section of the Board's website.

For further information, contact Juanita Chen at juanita.chen@trade.gov.

Dated: April 5, 2024.
Elizabeth Whiteman,
Executive Secretary.

[FR Doc. 2024-07687 Filed 4-10-24; 8:45 am]

BILLING CODE 3510-DS-P